DEPARTMENT OF JUSTICE

Drug Enforcement Administration

[Docket No. DEA-392]

Importer of Controlled Substances Registration: Cambrex Charles City

ACTION: Notice of registration.

SUMMARY: Cambrex Charles City applied to be registered as an importer of certain basic classes of controlled substances. The Drug Enforcement Administration (DEA) grants Cambrex Charles City registration as an importer of those controlled substances.

SUPPLEMENTARY INFORMATION: By notice dated January 21, 2015, and published in the Federal Register on January 28, 2015, 80 FR 4592, Cambrex Charles City, 1205 11th Street, Charles City, Iowa 50616-3466 applied to be registered as an importer of certain basic classes of controlled substances. No comments or objections were submitted for this notice. Comments and request for hearings on applications to import narcotic raw material are not appropriate. 72 FR 3417 (January 25, 2007).

The DEA has considered the factors in 21 U.S.C. 823, 952(a) and 958(a) and determined that the registration of Cambrex Charles City to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes of controlled substances:

Controlled substance | Schedule
4-Anilino-N-phenethyl-4-piperidine (ANPP) (8333) | II
Phenylacetone (8501) | II
Opium, raw (9600) | II
Poppy Straw Concentrate (9670) | II

The company plans to import the listed controlled substances for internal use, and to manufacture bulk intermediates for sale to its customers.

On September 29, 2014, Cambrex Charles City withdrew its request for the addition of Cocaine (9041), to this registration.

Dated: May 11, 2015.
Joseph T. Rannazzisi,
Deputy Assistant Administrator.

[FR Doc. 2015-11768 Filed 5-14-15; 8:45 am]

BILLING CODE 4410-09-P